DEPARTMENT OF ENERGY

Federal Energy Regulatory Commission

[Docket No. CP02-19-000]

Panhandle Eastern Pipe Line Company; Notice of Application

November 15, 2001.

Take notice that on November 5, 2001, Panhandle Eastern Pipe Line Company (Panhandle), P. O. Box 4967, Houston, Texas 77210-4967, filed in Docket No. CP02-19-000, an application pursuant to section 7(b) of the Natural Gas Act (NGA), as amended, and part 157 of the Federal Energy Regulatory Commission's Regulations (Commission), for authorization to abandon by transfer to CMS Field Services Company, Inc. (CMS Field Services), an affiliate of Panhandle, the Hickok Lateral located in Grant County, Kansas, and the Miles Lateral located in Kearny County, Kansas. Panhandle states that it also requests a finding that the facilities, upon abandonment, be declared as non-jurisdictional gathering facilities exempt from the Commission's jurisdiction under NGA section 1(b), all as more fully set forth in the application which is on file with the Commission and open to public inspection. Copies of this filing are on file with the Commission and are available for public inspection. This filing may also be viewed on the web at http://www.ferc.gov using the “RIMS” link, select “Docket #” and follow the instructions (call 202-208-2222 for assistance).

Panhandle states that the Hickok and Miles Laterals, which Panhandle proposes to abandon, are wholly-owned by Panhandle. The facilities were constructed pursuant to budget-type blanket certificate authority issued January 23, 1973 and January 30, 1978, as amended, December 21, 1978, in Docket No. CP73-167-000, and Docket No. CP78-83-000, respectively.

Panhandle states that the Hickok Lateral, Line No. 16-03-123-58, is a 16-inch pipeline that extends approximately 6.4 miles from an interconnect with Mobil Exploration & Production Company's Hickok Gathering System and Vastar Resources, Inc's. gathering facilities in Grant County, Kansas. According to Panhandle, there are no firm shippers which utilize the Hickok Lateral as a primary receipt point thus existing shippers will not be adversely affected by this application. Panhandle also states that there are no other wells or facilities connected to the 16-inch Hickok Lateral.

Panhandle states that the Miles Lateral, Line No. 43-03-039-01, is an 8-inch pipeline that extends approximately 16.7 miles from DEFS' Miles booster station to a point on Panhandle's 20-inch Lakin pipeline, which is adjacent to El Paso Field Services' processing plant in Kearny County, Kansas. The Miles pipeline was originally constructed to connect Panhandle's Miles and Hampton Gathering Systems to Panhandle's Lakin pipeline. Those gathering systems are now owned by DEFS. The only portion owned by Panhandle is the Miles Lateral. Currently, the only gas flowing through the Miles Lateral is under interruptible contracts. Panhandle states that there are no firm shippers using the Miles Lateral as a primary receipt point and that September 1998 was the last month that firm transportation service was provided, thus, existing shippers will not be adversely affected by this application. Panhandle also states that there are no other wells or facilities connected to the 8-inch Miles Lateral.

Panhandle states that with this application it is proposing to abandon by transfer to CMS Field Services the Hickok and Miles Laterals. While these laterals are currently classified as transmission, upon abandonment they will be performing a gathering function and thus should more properly be characterized as gathering facilities. Panhandle requests that the Commission determine that the Hickok and Miles Laterals serve a gathering function upon abandonment and transfer.

Panhandle states that as a transporter of natural gas, it no longer needs these facilities to purchase and gather gas for system supply, which was their original intended purpose. According to Panhandle, the proposed sale of these facilities will be beneficial from an operational standpoint in that their abandonment will allow Panhandle to cease the operation of those facilities no longer serving an interstate transmission system function and their sale will eliminate Panhandle's operating and maintenance expenses for them.

Any questions regarding this application should be directed to William W. Grygar, Vice President, Rates and Regulatory Affairs, Panhandle Eastern Pipe Line Company, 5444 Westheimer Road, Houston, Texas 77056-5306, at (713) 989-7000.

There are two ways to become involved in the Commission's review of this project. First, any person wishing to obtain legal status by becoming a party to the proceedings for this project should, on or before December 6, 2001, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

David P. Boergers,
Secretary.

[FR Doc. 01-29073 Filed 11-20-01; 8:45 am]

BILLING CODE 6717-01-P